Proclamation 9254 of April 10, 2015

Pan American Day and Pan American Week, 2015

By the President of the United States of America

A Proclamation

One hundred and twenty-five years ago, delegates from countries throughout the Western Hemisphere came together to establish the International Union of American Republics, the forerunner to what is today the oldest regional international organization in the world: the Organization of American States. In the years since, our nations have collaborated to address regional challenges and improve the lives of people across the Americas. On Pan American Day and during Pan American Week, we reaffirm our hemisphere's enduring friendship, and we recommit to working as equal partners to support robust civil societies and expand opportunity.

The United States and our regional neighbors are bound by our mutual desire for peace and stability, and the common yearning of all our peoples—to build a better life for themselves and their families. We share vibrant people-to-people connections and extensive economic links. These ties are vital to our security and prosperity, and when we work together to strengthen them, we help ensure a brighter future for the next generation.

My Administration is dedicated to joining with our Pan American partners to promote and protect human rights, open markets, expand fair trade, and advance the values of democracy and freedom. Last December, we began a new chapter in this commitment. In the most significant changes to our policy in more than 50 years, the United States is beginning to normalize our relations with Cuba. As we extend a hand of friendship to the Cuban people, we have the potential to lift up a nation and end a legacy of mistrust in our hemisphere.

We continue to expand trade among the nations of the Americas because we know when we allow businesses to grow their markets it extends opportunity to a wider circle of people. We are fostering small business connections throughout the Americas and bolstering women-owned and managed enterprises. Through the 100,000 Strong in the Americas initiative, the United States is striving to increase educational exchanges that open doors to new markets, innovative research, and region-wide prosperity. And as our nations face common energy and environmental concerns, my Administration is working with leaders and experts from the region to ensure every person in the Western Hemisphere will have access to the electricity they need at a price they can afford—in a manner that is socially responsible and environmentally beneficial.

As we head into this week, I will attend the Summit of the Americas in Panama. As leaders from across the Pan American community come together, we will continue our work to address the shared challenges our countries face today. When our people—our leaders, our civil society members, and all the sons and daughters of the Americas—join in a spirit of mutual interest and mutual respect, we can build a future of greater peace, security, and possibility for every person who calls the Americas home.

NOW, THEREFORE, I, BARACK OBAMA, President of the United States of America, by virtue of the authority vested in me by the Constitution and the laws of the United States, do hereby proclaim April 14, 2015, as Pan American Day and April 12 through April 18, 2015, as Pan American Week. I urge the Governors of the 50 States, the Governor of the Commonwealth of Puerto Rico, and the officials of the other areas under the flag of the United States of America to honor these observances with appropriate ceremonies and activities.

IN WITNESS WHEREOF, I have hereunto set my hand this tenth day of April, in the year of our Lord two thousand fifteen, and of the Independence of the United States of America the two hundred and thirty-ninth.

[FR Doc. 2015-08829

Filed 4-14-15; 11:15 am]

Billing code 3295-F5